DEPARTMENT OF TRANSPORTATION

GPS Adjacent Band Compatibility Assessment Testing

AGENCY: Office of the Assistant Secretary for Research and Technology, Department of Transportation.

ACTION: Notice; Request for voluntary participation.

SUMMARY: The Department of Transportation, through the Office of the Assistant Secretary for Research and Technology (OST-R), will begin testing Global Positioning System/Global Navigation Satellite System (“GPS/GNSS”) receivers this April pursuant to the DOT Adjacent Band Compatibility Study (“the Study”) test plan published with this notice. Device testing will take place at the U.S. Army Research Laboratory at the White Sands Missile Range (WSMR) facility in New Mexico.

The Study provides for testing categories of receivers that include aviation (non-certified), cellular, general location/navigation, high precision, timing, networks, and space-based receivers. DOT seeks to include a broad range of devices used in rail, aviation, motor vehicle, maritime, and space transportation safety systems, among a number of other applications of GPS/GNSS. The goal of the Study is to evaluate the adjacent radio frequency band power levels that can be tolerated by GPS/GNSS receivers, and advance the Department's understanding of the extent to which such power levels impact devices used for transportation safety purposes, among other GPS/GNSS applications.

The Study will involve testing of receivers provided by government agencies. In addition, to maximize diversity in the devices tested and breadth of relevant data collected for analysis in the Study, the Department requests voluntary participation in this Study by any interested GPS/GNSS device manufacturers or other parties whose products incorporate GPS/GNSS devices. Such participation could involve provision of GPS/GNSS receivers to DOT for use in testing, provision of data on receiver design to facilitate data collection pursuant to the test plan, and/or on-site commitment and support from manufacturers and other entities providing GPS/GNSS receivers for testing. DOT expects that any onsite commitment and support would take approximately one work week.

FOR FURTHER INFORMATION CONTACT: Any GPS device manufacturer interested in providing such assistance for the adjacent band study should contact Stephen Mackey at the DOT/OST-R Volpe National Transportation Systems Center at stephen.mackey@dot.gov or 617-494-2753 by March 18, 2016.

SUPPLEMENTARY INFORMATION: The final Study test plan published with this notice reflects input the Department obtained from broad public outreach over the past year that included four public meetings with stakeholders on September 18 and December 4, 2014, and March 12 and October 2, 2015, public issuance of a draft test plan on September 9, 2015 (see 80 FR 54368), and comments received regarding the test plan.

In addition, recognizing that providing support for the Study may involve sharing information with the Department that GPS/GNSS manufacturers may consider to be confidential business information or otherwise protected from disclosure to the public under the Freedom of Information Act, the Department on November 20, 2015 circulated for review by GPS/GNSS manufacturers and other stakeholders a draft Non-Disclosure Agreement (“NDA”) that manufacturers could enter into with the Department. With this notice the Department also is publishing a revised NDA that takes into account comments submitted by stakeholders. Under this NDA, information the Department receives from GPS/GNSS manufacturers for use in the Study may be shared with other federal agencies and will be protected from unauthorized disclosure or use in accordance with applicable confidentiality laws, such as the Trade Secrets Act, 18 U.S.C. 1905, and may be exempt from disclosure to the public, to the extent permitted by the Freedom of Information Act.

The documents referenced in this Notice and further background can be viewed at: http://www.gps.gov/spectrum/ABC/.

Privacy Act: Anyone can search the electronic form of comments received into any of our dockets by the name of the individual submitting the comment (or signing the comment, if submitted on behalf of an association, business, labor union, etc.). You may review a Privacy Act system of records notice regarding our public dockets in the January 17, 2008 issue of the Federal Register (73 FR 3316).

Issued in Washington, DC, on March 3, 2016.
Gregory D. Winfree,
Assistant Secretary for Research and Technology.

[FR Doc. 2016-05247 Filed 3-8-16; 8:45 am]

BILLING CODE 4910-9X-P